DEPARTMENT OF DEFENSE

Department of the Navy

Notice of Intent To Grant Exclusive Patent License; Walleye Technologies, Inc.

AGENCY: Department of the Navy, DoD.

ACTION: Notice.

SUMMARY: The Department of the Navy hereby gives notice of its intent to grant to Walleye Technologies, Inc., a revocable, non-assignable, exclusive license in the field of portable x-ray units for use in medical imaging, including but not limited to, medical first responder, medical emergency room, and medical battlefield imaging in the United States and certain foreign countries, the Government-owned inventions described in U.S. Patent No. 6,064,718: Field Emission Tube for a Mobile X-ray Unit, Navy Case No. 78,568.//U.S. Patent No. 6,166,459: Capacitor Mounting Arrangement for Marx Generators, Navy Case No. 78,568.// U.S. Patent No. 6,205,200: Mobile X-ray Unit, Navy Case No. 78,059.//U.S. Patent No. 6,285,740: Dual Energy X-ray Densitometry Apparatus and Method Using Single X-ray Pulse, Navy Case No. 79,057.//U.S. Patent No. 6,690,566: Trigger Circuit for Marx Generators, Navy Case No. 79,357 and any continuations, divisionals or re-issues thereof.

DATES: Anyone wishing to object to the grant of this License must file written objections along with supporting evidence, if any, not later than February 20, 2007.

ADDRESSES: Written objections are to be filed with the Naval Research Laboratory, Code 1004, 4555 Overlook Avenue, SW., Washington, DC 20375-5320.

FOR FURTHER INFORMATION CONTACT: Rita Manak, Head, Technology Transfer Office, NRL Code 1004, 4555 Overlook Avenue, SW., Washington, DC 20375-5320, telephone 202-767-3083. Due to U.S. Postal delays, please fax 202-404-7920, e-mail: rita.manak@nrl.navy.mil or use courier delivery to expedite response.

(Authority: 35 U.S.C. 207, 37 CFR Part 404.)

Dated: January 29, 2007.
M. A. Harvison,
Lieutenant Commander, Judge Advocate General's Corps, U.S. Navy, Federal Register Liaison Officer.

[FR Doc. E7-1789 Filed 2-2-07; 8:45 am]

BILLING CODE 3810-FF-P